FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201379.

Agreement Name: Crowley/King Ocean Dominican Republic/Haiti Space Charter Agreement.

Parties: Crowley Latin America Services, LLC and King Ocean Services Limited, Inc.

Filing Party: Wayne Rohde; Cozen O'Connor.

Synopsis: The Agreement authorizes the parties to charter space to/from one another on a space available/as used basis in the trade between the U.S. Atlantic Coast on the one hand and ports in the Dominican Republic and Haiti on the other hand.

Proposed Effective Date: 2/22/2022.

Location: https://www2.fmc.gov/FMC.Agreements.Web/Public/AgreementHistory/59504.

Agreement No.: 201380.

Agreement Name: Crowley/Antillean Dominican Republic/Haiti Space Charter Agreement.

Parties: Antillean Marine Shipping Corporation and Crowley Latin America Services, LLC.

Filing Party: Wayne Rohde; Cozen O'Connor.

Synopsis: The Agreement authorizes the parties to charter space to/from one another on a space available/as used basis in the trade between the U.S. Atlantic Coast on the one hand and ports in the Dominican Republic and Haiti on the other hand.

Proposed Effective Date: 2/24/2022.

Location: https://www2.fmc.gov/FMC.Agreements.Web/Public/AgreementHistory/59505.

Agreement No.: 201356-002.

Agreement Name: PFLG/NPDL Slot Charter Agreement.

Parties: Neptune Pacific Direct Line Pte. Ltd. and Pacific Forum Line (Group) Limited.

Filing Party: David Monroe; GKG Law.

Synopsis: The amendment updates the amount of space being chartered under the Agreement.

Proposed Effective Date: 2/17/2022.

Location: https://www2.fmc.gov/FMC.Agreements.Web/Public/AgreementHistory/39510.

Agreement No.: 201378.

Agreement Name: NPDL/PFLG Slot Charter Agreement.

Parties: Neptune Pacific Direct Line Pte. Ltd. and Pacific Forum Line (Group) Limited.

Filing Party: David Monroe; GKG Law.

Synopsis: The purpose of this agreement is to allow NPDL to charter space to PFLG in the relevant trades.

Proposed Effective Date: 2/17/2022.

Location: https://www2.fmc.gov/FMC.Agreements.Web/Public/AgreementHistory/59502.

Dated: February 18, 2022.
William Cody,
Secretary.

[FR Doc. 2022-04436 Filed 3-2-22; 8:45 am]

BILLING CODE 6730-02-P